DEPARTMENT OF HEALTH AND HUMAN SERVICES

National Institutes of Health

Submission for OMB Review; 30-Day Comment Request; Intramural Continuing Umbrella of Research Experiences (iCURE) Application—National Cancer Institute

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Alison Lin, 9609 Medical Center Drive, Rockville, MD 20850 or call non-toll-free number (240) 276-6177 or Email your request, including your address to: linaj@mail.nih.gov.

SUPPLEMENTARY INFORMATION: This proposed information collection was previously published in the Federal Register on July 27, 2018, page 35665 (83 FR 35665) and allowed 60 days for public comment. No public comments were received. The purpose of this notice is to allow an additional 30 days for public comment.

The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Intramural Continuing Umbrella of Research Experiences (iCURE) Application, 0925-XXXX, Exp., Date XX/XXXX, EXISTING COLLECTION IN USE WITHOUT OMB NUMBER, National Cancer Institute (NCI), National Institutes of Health (NIH).

Need and Use of Information Collection: The new Intramural Continuing Umbrella of Research Experiences (iCURE) program supports mentored research experiences for qualified post-baccalaureate (including post masters) individuals, graduate students, and postdoctoral fellows in the multidisciplinary National Cancer Institute (NCI) intramural research environment. This information collection request are applications and a reference letter to help evaluate the merits of the candidates and their potential match for the iCURE program. iCURE is an extension of the highly successful NCI Center to Reduce Cancer Health Disparities' (CRCHD) Continuing Umbrella of Research Experiences (CURE) program which helps support the career progress of its scholars toward research independence, as well as fosters and sustains diversity in the biomedical research pipeline. Like the CURE program, iCURE strongly encourages the participation of individuals from underrepresented populations and is aligned with NCI's interest in diversity. The benefit of collecting this information is to enable the selection of the best matching candidates for the iCURE program. The iCURE program aims to, 1. Enhance the diversity of the NCI Intramural Research Program (IRP), and 2. Promote the career progress of the iCURE scholars in cancer research.

OMB approval is requested for 3 years. There are no costs to respondents other than their time. The total estimated burden hours are 305.

Estimated Annualized Burden Hours
Form name | Type of respondent | Number of respondents | Number of responses per respondent | Average time per response (in hours) | Total annual burden hour
Post-Baccalaureate Supplemental Application | Post-Baccalaureate (Including Post-Master's) Individuals | 50 | 1 | 30/60 | 25
Graduate Student Application | Graduate Students | 30 | 1 | 2 | 60
Postdoctoral Fellowship Application | Postdoctoral Candidates | 50 | 1 | 2 | 100
Reference Letter | PIs, professors, supervisors | 240 | 1 | 30/60 | 120
Totals |  | 370 | 370 |  | 305

Dated: October 2, 2018.
Patricia M. Busche,
Project Clearance Liaison, National Cancer Institute, National Institutes of Health.

[FR Doc. 2018-22319 Filed 10-12-18; 8:45 am]

BILLING CODE 4140-01-P